DEPARTMENT OF TRANSPORTATION

Federal Aviation Administration

14 CFR Part 39

[Docket No. FAA-2005-22321; Directorate Identifier 2005-NM-123-AD; Amendment 39-14610; AD 2006-11-06]

RIN 2120-AA64

Airworthiness Directives; Boeing Model 767-200 and -300 Series Airplanes

AGENCY: Federal Aviation Administration (FAA), Department of Transportation (DOT).

ACTION: Final rule.

SUMMARY: The FAA is adopting a new airworthiness directive (AD) for certain Boeing Model 767-200 and -300 series airplanes. This AD requires replacing the placards on certain stowage bins with new placards, installing partial dividers in certain other stowage bins, and installing straps on stowage bins containing life rafts. For certain airplanes, this AD also requires related concurrent actions. This AD results from test data indicating that outboard overhead stowage bins are unable to withstand the 4.5g down-load standard intended to protect passengers during flight turbulence or a hard landing. We are issuing this AD to prevent the stowage bins from opening during flight turbulence or a hard landing, which could result in the contents of the stowage bins falling onto the passenger seats below and injuring passengers, or blocking the aisles, impeding the evacuation of passengers in an emergency.

DATES: This AD becomes effective June 29, 2006.

The Director of the Federal Register approved the incorporation by reference of certain publications listed in the AD as of June 29, 2006.

ADDRESSES: You may examine the AD docket on the Internet at http://dms.dot.gov or in person at the Docket Management Facility, U.S. Department of Transportation, 400 Seventh Street, SW., Nassif Building, room PL-401, Washington, DC.

Contact Boeing Commercial Airplanes, P.O. Box 3707, Seattle, Washington 98124-2207, for service information identified in this AD.

FOR FURTHER INFORMATION CONTACT: Patrick Gillespie, Aerospace Engineer, Cabin Safety and Environmental Systems Branch, ANM-150S, FAA, Seattle Aircraft Certification Office, 1601 Lind Avenue, SW., Renton, Washington 98055-4056; telephone (425) 917-6429; fax (425) 917-6590.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to certain Boeing Model 767-200 and -300 series airplanes. That NPRM was published in the Federal Register on September 7, 2005 (70 FR 53106). That NPRM proposed to require replacing the placards on certain stowage bins with new placards, installing partial dividers in certain other stowage bins, and installing straps on stowage bins containing life rafts. For certain airplanes, that NPRM also proposed to require related concurrent actions; including replacing door latches, strikes, and thresholds on the outboard overhead stowage compartments with new, improved latches, strikes, and thresholds.

Comments

We provided the public the opportunity to participate in the development of this AD. We have considered the comments received.

Request To Extend Compliance Time

ATA, on behalf of its member, Delta Airlines (Delta), requests that we extend the compliance time from 60 months to 72 months. Delta states that this will allow operators to spread out the costs over a longer period of time without any demonstrable decrease in safety to the fleet.

We agree with this request. We have determined that an additional 12 months for compliance will not significantly affect overall fleet safety. Therefore, we have revised paragraph (f) of the AD to extend the compliance time to 72 months.

Request To Give Credit for Using Original Issue of Service Information

ATA, on behalf of its member, Delta, requests that we revise the NPRM to give credit for actions accomplished using the original issue of Boeing Service Bulletin 767-25-0211, dated August 12, 1993. Delta states that Revision 1 of Service Bulletin 767-25-0211, dated July 14, 1994 (referred to as the appropriate source of service information for accomplishing the actions required by paragraph (g) of this AD), requires no new work in certain areas.

We agree with this request for the reason given. Therefore, we have revised paragraph (h) of the AD to include a statement that actions accomplished before the effective date of this AD in accordance with Service Bulletin 767-25-0211, dated August 12, 1993, are acceptable for compliance with the corresponding actions of this AD.

Request To Eliminate Need To Account for Bins Not Installed

ATA, on behalf of its member, Delta, requests that we revise the NPRM to exclude the need to account for bins that have been removed from the airplane. Delta states that Boeing Service Bulletins 767-25-0336 and 767-25-0211 both identify specific bin modules which must be modified. Delta asserts that the NPRM, as written, will require certain bins to be modified even if those bins have been removed in accordance with an alternative method of compliance (AMOC), and that another AMOC will be required to release operators from this unnecessary compliance.

We do not agree with this request. We find that an AMOC for the requirements of paragraphs (f) and (g) of this AD is not necessary if a stowage bin has been removed. The requirements of paragraphs (f) and (g) apply only to stowage bins identified in the referenced service bulletin. However, stowage bins that have been removed from airplanes are still subject to the requirements of paragraph (i) of this AD. We have not changed the AD in this regard.

Request for Justification of NPRM

One commenter, Delta, suggests that we review our decision to issue an AD to mandate the modifications described in the referenced service information. Delta states that the cost would be excessive in an airplane that is approaching its maximum age. Delta asks if we or Boeing have researched fleet data for past incidents as described in the NPRM. Delta further asks if such an incident is probable and if the probability is high enough to substantiate that this is a true safety concern that justifies the costs to correct it.

Though Delta did not specifically request us to do so, we infer that Delta is requesting us to withdraw this proposed AD. We do not agree. This AD corrects an unsafe condition related to a stowage bin design that is significantly under strength. We have performed an analysis that indicates that several serious injuries may occur during the remaining service life of the affected fleet if this condition is not corrected. Further, Boeing has reported seven events of inadvertent opening of these stowage bins. Therefore, we have determined that this AD is both warranted and necessary. We have made no changes to the AD in this regard; however, we have provided some relief to operators by extending the compliance time as previously discussed.

Recommendation To Revise Accomplishment Instructions

The Air Transport Association (ATA), on behalf of its member, American Airlines (AAL), recommends that the manufacturer revise the Accomplishment Instructions of the service information referenced in the NPRM to allow operators to meet the intent of the NPRM without using partial dividers in the stowage compartments. AAL states that the change as described is costly and time consuming because it creates two different configurations of outboard stowage bins in the 767 fleet, the cost of repair of the partial dividers is not accounted for, and use of partial dividers will impact stowage space.

We do not agree. We have determined that accomplishing the modifications described in the referenced service information adequately addresses the unsafe condition. In addition, we do not consider it appropriate to include various provisions in an AD applicable to a single operator's unique use of an affected airplane. However, under the provisions of paragraph (j) of the AD, we may consider requests for approval of an AMOC if sufficient data that are submitted to substantiate that such a design change would provide an acceptable level of safety.

Request To Provide Warranty Coverage for Material Costs

Avianca Airlines states that the materials cost for this modification is very expensive. Avianca Airlines further states that the materials kit for this modification was provided free of charge by Boeing until 1994. Avianca Airlines made no request to revise the NPRM, but recommends that Boeing continue to provide the materials kit free of charge while the operators cover the cost of labor.

As no change was requested, we have not revised the AD in this regard. Further, as material and parts costs are determined by manufacturers, Avianca Airlines may wish to contact Boeing to discuss this recommendation.

Clarification of Alternative Method of Compliance (AMOC) Paragraph

We have revised this action to clarify the appropriate procedure for notifying the principal inspector before using any approved AMOC on any airplane to which the AMOC applies.

Conclusion

We have carefully reviewed the available data, including the comments received, and determined that air safety and the public interest require adopting the AD with the changes described previously. We have determined that these changes will neither increase the economic burden on any operator nor increase the scope of the AD.

Costs of Compliance

There are about 366 airplanes of the affected design in the worldwide fleet and 138 airplanes of U.S. registry. The following tables provide the estimated costs for U.S. operators to comply with this AD.

Estimated Costs
Action | Work hours per kit | Average labor rate per hour | Cost of parts kit per airplane | Cost per airplane | Number of U.S.-registered airplanes | Fleet cost
Installation of placards, dividers, and straps | Between 46 and 74 | $65 | Between $26,700 and $44,196 | Between $29,690 and $49,006 | 138 | Between $4,097,220 and $6,762,828.

Estimated Costs of Concurrent Service Bulletin
Action | Work hours | Average labor rate per hour | Parts | Cost per airplane | Number of U.S.-registered airplanes | Fleet cost
Installation of new door latches, strikes, and thresholds | Between 24 and 31 | $65 | Between $7,000 and $70,000 | Between $8,560 and $72,015 | 105 | Between $898,800 and $7,561,575.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-11-06 Boeing: Amendment 39-14610. Docket No. FAA-2005-22321; Directorate Identifier 2005-NM-123-AD.

Effective Date

(a) This AD becomes effective June 29, 2006.

Affected ADs

(b) None.

Applicability

(c) This AD applies to Boeing Model 767-200 and -300 series airplanes, certificated in any category; as identified in Boeing Special Attention Service Bulletin 767-25-0336, Revision 2, dated August 11, 2005.

Unsafe Condition

(d) This AD results from test data indicating that outboard overhead stowage bins are unable to withstand the 4.5g down-load standard intended to protect passengers during flight turbulence or a hard landing. We are issuing this AD to prevent the stowage bins from opening during flight turbulence or a hard landing, which could result in the contents of the stowage bins falling onto the passenger seats below and injuring passengers, or blocking the aisles, impeding the evacuation of passengers in an emergency.

Compliance

(e) You are responsible for having the actions required by this AD performed within the compliance times specified, unless the actions have already been done.

Replacement of Placards and Installation of Partial Divider Panels and Life Raft Straps

(f) Within 72 months after the effective date of this AD: Replace the placards on certain stowage bins with new placards, install partial dividers in certain other stowage bins, and install straps on stowage bins containing life rafts, in accordance with the Accomplishment Instructions of Boeing Special Attention Service Bulletin 767-25-0336, Revision 2, dated August 11, 2005.

Actions Required To Be Accomplished Prior to or Concurrently With Paragraph (f) of This AD

(g) For Group 1 airplanes as identified in Boeing Special Attention Service Bulletin 767-25-0336, Revision 2, dated August 11, 2005: Prior to or concurrently with the accomplishment of paragraph (f) of this AD, replace the door latches, strikes, and thresholds on the outboard overhead stowage compartments with new latches, strikes, and thresholds. Do the replacement in accordance with the Accomplishment Instructions of Boeing Service Bulletin 767-25-0211, Revision 1, dated July 14, 1994.

Actions Accomplished Previously

(h) Accomplishment of the stowage bin modifications required by paragraph (f) of this AD in accordance with Boeing Special Attention Service Bulletin 767-25-0336, dated May 15, 2003; or Revision 1, dated October 21, 2004; and paragraph (g) of this AD in accordance with Boeing Service Bulletin 767-25-0211, dated August 12, 1993; before the effective date of this AD; is considered acceptable for compliance with the corresponding requirements of this AD.

Parts Installation

(i) As of the effective date of this AD, no person may install on any airplane a stowage bin having a part number identified in Table 2 of Figure 1 of Boeing Special Attention Service Bulletin 767-25-0336, Revision 2, dated August 11, 2005, unless it has been modified by performing the applicable actions in paragraph (f) of this AD.

Alternative Methods of Compliance (AMOCs)

(j)(1) The Manager, Seattle Aircraft Certification Office, FAA, has the authority to approve AMOCs for this AD, if requested in accordance with the procedures found in 14 CFR 39.19.

(2) Before using any AMOC approved in accordance with 14 CFR 39.19 on any airplane to which the AMOC applies, notify the appropriate principal inspector in the FAA Flight Standards Certificate Holding District Office.

Material Incorporated by Reference

(k) You must use Boeing Special Attention Service Bulletin 767-25-0336, Revision 2, dated August 11, 2005; and Boeing Service Bulletin 767-25-0211, Revision 1, dated July 14, 1994; as applicable; to perform the actions that are required by this AD, unless the AD specifies otherwise. The Director of the Federal Register approved the incorporation by reference of these documents in accordance with 5 U.S.C. 552(a) and 1 CFR part 51. Contact Boeing Commercial Airplanes, P.O. Box 3707, Seattle, Washington 98124-2207, for a copy of this service information. You may review copies at the Docket Management Facility, U.S. Department of Transportation, 400 Seventh Street, SW., room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on May 9, 2006.
Ali Bahrami,
Manager, Transport Airplane Directorate, Aircraft Certification Service.

[FR Doc. 06-4803 Filed 5-24-06; 8:45 am]

BILLING CODE 4910-13-P